FEDERAL COMMUNICATIONS COMMISSION

47 CFR Part 73

[DA 00-1962; MM Docket No. 99-78; RM-9487 and RM-9646]

Radio Broadcasting Services; Blackduck and Kelliher, MN

AGENCY: Federal Communications Commission.

ACTION: Final rule.

SUMMARY: This document allots Channels 221A and Channel 283A at Blackduck, Minnesota, in response to a petition filed by Community Religious Broadcasters. See 64 FR 14420, March 25, 1999. Channels 221A and 283A can be allotted to Blackduck at center city reference coordinates, 47-43-48 and 94-32-54. In response to a counterproposal filed by De La Hunt Broadcasting, we shall also allot Channel 273A to Killiher, Minnesota, as a first local service at coordinates 47-56-30 and 94-26-53. Canadian concurrence has been received for the allotments at Blackduck and Kelliher. The issue of opening a filing window for these channels will be addressed by the Commission in a subsequent order.

DATES: Effective October 10, 2000.

ADDRESSES: Federal Communications Commission, Washington, DC 20554.

FOR FURTHER INFORMATION CONTACT: Kathleen Scheuerle, Mass Media Bureau, (202) 418-2180.

SUPPLEMENTARY INFORMATION: This is a summary of the Commission's Report and Order, MM Docket No. 99-78, adopted August 16, 2000, and released August 25, 2000. The full text of this Commission decision is available for inspection and copying during normal business hours in the Commission's Reference Center, 445 12th Street, SW., Washington, DC. The complete text of this decision may also be purchased from the Commission's copy contractors, International Transcription Services, Inc., 1231 20th Street, NW., Washington, DC 20036, (202) 857-3800, facsimile (202) 857-3805.

List of Subjects in 47 CFR Part 73

Radio broadcasting.

Part 73 of title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under Minnesota, is amended by adding Channel 221A and Channel 283A at Blackduck and by adding Kelliher, Channel 273A.

Federal Communications Commission.
John A. Karousos,
Chief, Allocations Branch, Policy and Rules Division, Mass Media Bureau.

[FR Doc. 00-22921 Filed 9-6-00; 8:45 am]

BILLING CODE 6712-01-P